SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: December 1-31, 2022.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22 (f) for the time period specified above:

Water Source Approval—Issued Under 18 CFR 806.22 f

1. Blackhill Energy LLC; Pad ID: JACKSON 1H Pad; ABR-201009053.R2; Springfield Township, Bradford County, Pa.; Consumptive Use of Up to 4.9900 mgd; Approval Date: December 8, 2022.

2. Chesapeake Appalachia, L.L.C.; Pad ID: Wissler Drilling Pad; ABR-201406005.R1.1; McNett Township, Lycoming County, Pa.; Consumptive Use of Up to 7.5000 mgd; Approval Date: December 8, 2022.

3. Chesapeake Appalachia, L.L.C.; Pad ID: Curtis New; ABR-201009100.R2; Asylum Township, Bradford County, Pa.; Consumptive Use of Up to 7.5000 mgd; Approval Date: December 12, 2022.

4. Chesapeake Appalachia, L.L.C.; Pad ID: Romisoukas Drilling Pad; ABR-201209021.R2; Canton Township, Bradford County, Pa.; Consumptive Use of Up to 7.5000 mgd; Approval Date: December 12, 2022.

5. Repsol Oil & Gas USA, LLC; Pad ID: STORCH (01 099) S; ABR-201209016.R2; Troy Township, Bradford County, Pa.; Consumptive Use of Up to 6.0000 mgd; Approval Date: December 12, 2022.

6. Repsol Oil & Gas USA, LLC; Pad ID: ZIMMERLI (05 074) D; ABR-201009079.R2; Orwell Township, Bradford County, Pa.; Consumptive Use of Up to 6.0000 mgd; Approval Date: December 12, 2022.

7. Seneca Resources Company, LLC; Pad ID: Empson 899; ABR-201009095.R2; Deerfield Township, Tioga County, Pa.; Consumptive Use of Up to 4.0000 mgd; Approval Date: December 12, 2022.

8. SWN Production Company, LLC; Pad ID: Cooley (Pad 2); ABR-201209017.R2; Orwell Township, Bradford County, Pa.; Consumptive Use of Up to 4.9990 mgd; Approval Date: December 12, 2022.

9. EQT ARO LLC; Pad ID: Mallory Group Pad C; ABR-202212003; Plunketts Creek Township, Lycoming County, Pa.; Consumptive Use of Up to 4.0000 mgd; Approval Date: December 14, 2022.

10. Repsol Oil & Gas USA, LLC; Pad ID: OLSON (02 101) K; ABR-201209024.R2; Hamilton Township, Tioga County, Pa.; Consumptive Use of Up to 6.0000 mgd; Approval Date: December 14, 2022.

11. Chesapeake Appalachia, L.L.C.; Pad ID: Craige; ABR-201010009.R2; Rush Township, Susquehanna County, Pa.; Consumptive Use of Up to 7.5000 mgd; Approval Date: December 22, 2022.

12. Chesapeake Appalachia, L.L.C.; Pad ID: Goll; ABR-201010016.R2; Ulster Township, Bradford County, Pa.; Consumptive Use of Up to 7.5000 mgd; Approval Date: December 22, 2022.

13. Chesapeake Appalachia, L.L.C.; Pad ID: Landmesser; ABR-201010019.R2; Towanda Township, Bradford County, Pa.; Consumptive Use of Up to 7.5000 mgd; Approval Date: December 22, 2022.

14. Chesapeake Appalachia, L.L.C.; Pad ID: Scrivener; ABR-201010005.R2; Rome Township, Bradford County, Pa.; Consumptive Use of Up to 7.5000 mgd; Approval Date: December 22, 2022.

15. Chesapeake Appalachia, L.L.C.; Pad ID: Sidonio; ABR-201010025.R2; Ulster Township, Bradford County, Pa.; Consumptive Use of Up to 7.5000 mgd; Approval Date: December 22, 2022.

16. Chesapeake Appalachia, L.L.C.; Pad ID: T. Brown Drilling Pad; ABR-201210006.R2; Lemon Township, Wyoming County, Pa.; Consumptive Use of Up to 7.5000 mgd; Approval Date: December 22, 2022.

17. Coterra Energy Inc.; Pad ID: AldrichL P1; ABR-201210002.R2; Gibson Township, Susquehanna County, Pa.; Consumptive Use of Up to 5.0000 mgd; Approval Date: December 22, 2022.

18. Coterra Energy Inc.; Pad ID: LewisD P1; ABR-202212001; Bridgewater Township, Susquehanna County, Pa.; Consumptive Use of Up to 5.0000 mgd; Approval Date: December 22, 2022.

19. Coterra Energy Inc.; Pad ID: PennayG P1; ABR-201709004.R1; Brooklyn Township, Susquehanna County, Pa.; Consumptive Use of Up to 5.0000 mgd; Approval Date: December 22, 2022.

20. Coterra Energy Inc.; Pad ID: Precision Capital LP P1; ABR-201709003.R1; Lathrop Township, Susquehanna County, Pa.; Consumptive Use of Up to 5.0000 mgd; Approval Date: December 22, 2022.

21. EQT ARO LLC; Pad ID: Mountain Meadow Lodge Pad A; ABR-201709006.R1; McIntyre Township, Lycoming County, Pa.; Consumptive Use of Up to 4.0000 mgd; Approval Date: December 22, 2022.

22. Repsol Oil & Gas USA, LLC; Pad ID: COOK (05 040) C; ABR-201010021.R2; Orwell Township, Bradford County, Pa.; Consumptive Use of Up to 6.0000 mgd; Approval Date: December 22, 2022.

23. Repsol Oil & Gas USA, LLC; Pad ID: Kindon 374; ABR-201010002.R2; Union Township, Tioga County, Pa.; Consumptive Use of Up to 6.0000 mgd; Approval Date: December 22, 2022.

24. Seneca Resources Company, LLC; Pad ID: B08-Z; ABR-202212004; Shippen Township, Cameron County, Pa.; Consumptive Use of Up to 4.0000 mgd; Approval Date: December 22, 2022.

25. Seneca Resources Company, LLC; Pad ID: Signor 578; ABR-201010023.R2; Charleston Township, Tioga County, Pa.; Consumptive Use of Up to 4.0000 mgd; Approval Date: December 22, 2022.

26. SWN Production Company, LLC; Pad ID: Gypsy Hill-Eastabrook (Pad 5); ABR-201209018.R2; Orwell Township, Bradford County, Pa.; Consumptive Use of Up to 4.9990 mgd; Approval Date: December 22, 2022.

27. SWN Production Company, LLC; Pad ID: Rabago Birk (Pad 10); ABR-201209019.R2; Herrick Township, Bradford County, Pa.; Consumptive Use of Up to 4.9990 mgd; Approval Date: December 22, 2022.

28. SWN Production Company, LLC; Pad ID: Wootton East Well Pad; ABR-201209020.R2; Liberty Township, Susquehanna County, Pa.; Consumptive Use of Up to 4.9990 mgd; Approval Date: December 22, 2022.

29. Coterra Energy Inc.; Pad ID: BrayB P1; ABR-201210004.R2; Auburn Township, Susquehanna County, Pa.; Consumptive Use of Up to 5.0000 mgd; Approval Date: December 27, 2022.

30. Coterra Energy Inc.; Pad ID: BurtsL P1; ABR-201109026.R2; Forest Lake Township, Susquehanna County, Pa.; Consumptive Use of Up to5.0000 mgd; Approval Date: December 27, 2022.

31. Coterra Energy Inc.; Pad ID: DeluciaR P1; ABR-201211002.R2; Harford Township, Susquehanna County, Pa.; Consumptive Use of Up to 5.0000 mgd; Approval Date: December 27, 2022.

32. Coterra Energy Inc.; Pad ID: RutkowskiB P1; ABR-201210003.R2; Lenox Township, Susquehanna County, Pa.; Consumptive Use of Up to 5.0000 mgd; Approval Date: December 27, 2022.

33. Coterra Energy Inc.; Pad ID: WellsP P1; ABR-201111023.R2; Bridgewater Township, Susquehanna County, Pa.; Consumptive Use of Up to 5.0000 mgd; Approval Date: December 27, 2022.

34. Pennsylvania General Energy Company, L.L.C.; Pad ID: SUSQ Cummings Pad E; ABR-202212002; Union Township, Tioga County, Pa.; Consumptive Use of Up to 4.5000 mgd; Approval Date: December 27, 2022.

35. Chesapeake Appalachia, L.L.C.; Pad ID: Lemoreview Farms; ABR-201010003.R2; Leroy Township, Bradford County, Pa.; Consumptive Use of Up to 7.5000 mgd; Approval Date: December 29, 2022.

36. EQT ARO LLC; Pad ID: Elbow F&G Pad B; ABR-201206007.R2; Cogan House Township, Lycoming County, Pa.; Consumptive Use of Up to 4.0000 mgd; Approval Date: December 29, 2022.

37. Seneca Resources Company, LLC; Pad ID: Heath 418; ABR-201010011.R2; Delmar Township, Tioga County, Pa.; Consumptive Use of Up to 4.0000 mgd; Approval Date: December 29, 2022.

38. Seneca Resources Company, LLC; Pad ID: Lopatofsky 287; ABR-201009091.R2; Charleston Township, Tioga County, Pa.; Consumptive Use of Up to 4.0000 mgd; Approval Date: December 29, 2022.

39. Seneca Resources Company, LLC; Pad ID: Schimmel 830; ABR-201009090.R2; Farmington Township, Tioga County, Pa.; Consumptive Use of Up to 4.0000 mgd; Approval Date: December 29, 2022.

40. Seneca Resources Company, LLC; Pad ID: Worden 571; ABR-201009092.R2; Charleston Township, Tioga County, Pa.; Consumptive Use of Up to 4.0000 mgd; Approval Date: December 29, 2022.

41. Blackhill Energy LLC; Pad ID: KLINE A Pad; ABR-201210010.R2; Springfield Township, Bradford County, Pa.; Consumptive Use of Up to 4.9900 mgd; Approval Date: December 30, 2022.

42. Blackhill Energy LLC; Pad ID: KLINE B Pad; ABR-201210011.R2; Springfield Township, Bradford County, Pa.; Consumptive Use of Up to 4.9900 mgd; Approval Date: December 30, 2022.

43. Blackhill Energy LLC; Pad ID: WARD B Pad; ABR-201210009.R2; Springfield Township, Bradford County, Pa.; Consumptive Use of Up to 4.9900 mgd; Approval Date: December 30, 2022.

44. Coterra Energy Inc.; Pad ID: EllsworthA P1; ABR-201110015.R2; Bridgewater Township, Susquehanna County, Pa.; Consumptive Use of Up to 5.0000 mgd; Approval Date: December 30, 2022.

45. SWN Production Company, LLC; Pad ID: ENDLESS MOUNTAIN RECREATION; ABR-201209001.R2; New Milford Township, Susquehanna County, Pa.; Consumptive Use of Up to 4.9990 mgd; Approval Date: December 30, 2022.

The following project applications have had their review terminated under 18 CFR 806.22(f) and in accordance with Policy No. 2016-02, Guidelines for Terminating Review of a Project Application.

Termination of Review—Issued Under 18 CFR 806.22(f)

1. Norse Energy Corporation USA; Pad ID: Martin, C. #1H; NOI-2011-0581; McDonough Town, Chenango County, NY; Consumptive Use of Up to 5.5000 mgd; Termination Date: December 28, 2022.

2. Norse Energy Corporation USA; Pad ID: Norse-Housing #1H; NOI-2011-0582; Smyrna Town, Chenango County, NY; Consumptive Use of Up to 5.5000 mgd; Termination Date: December 28, 2022.

3. Norse Energy Corporation USA; Pad ID: Norwalk, R #1H—4H; NOI-2011-0583; Smithville Town, Chenango County, NY; Consumptive Use of Up to 5.5000 mgd; Termination Date: December 28, 2022.

Authority: Public Law 91-575, 84 Stat. 1509 et seq., 18 CFR parts 806 and 808.

Dated: January 6, 2023.
Jason E. Oyler,
General Counsel and Secretary to the Commission.

[FR Doc. 2023-00373 Filed 1-10-23; 8:45 am]

BILLING CODE 7040-01-P